ENVIRONMENTAL PROTECTION AGENCY

[FRL-6847-4]

Science Advisory Board; Notification of Public Advisory Committee Meeting

Pursuant to the Federal Advisory Committee Act, Public Law 92-463, notice is hereby given that the Environmental Health Committee (EHC) of the US EPA Science Advisory Board (SAB), will meet on August 30, 2000 in Courtroom B, at the International Trade Commission building, 400 E Street, SW., Washington DC. The meeting will begin 9:00 am and adjourn no later than 5 pm. All times noted are Eastern Daylight Time. The meeting is open to the public, however, seating is limited and available on a first come basis. Important Notice: Documents that are the subject of SAB reviews are normally available from the originating EPA office and are not available from the SAB Office—information concerning availability of documents from the relevant Program Office is included below.

Purpose of the Meeting

The Integrated Risk Information System (IRIS) data base contains EPA's consensus scientific position on potential adverse human health effects that may result from chronic exposure to specific agents in the environment. First publically available in 1988, the earliest IRIS assessments provided the results of the EPA deliberations culminating in consensus health hazard conclusions. Gradually the assessments included more of the details of the data and of the considerations which led to the consensus conclusions. Since 1995 (when the IRIS Pilot program was undertaken), EPA has taken several steps to ensure that the best available scientific information is included in IRIS assessments, including public requests for all relevant information to be submitted to EPA for consideration in the assessments, and external peer reviews of the assessments.

In response to a directive contained in an October 1999 report from Congress (HR 106-379) regarding EPA's appropriations for FY2000, EPA has evaluated the characterization of data variability and uncertainty in IRIS assessments. EPA's Office of Research and Development (ORD) National Center for Environmental Assessment (NCEA) first consulted with the SAB Executive Committee (EC) on Nov. 29, 1999, about a proposed approach to this study. This approach involved assembling a team of independent, qualified individuals, external to EPA, to evaluate a representative set of IRIS assessments. ORD/NCEA provided a progress report to the SAB at their March 2000 meeting (at which the EC suggested further enhancements to the study approach), and at the EC's July 12, 2000 meeting. The study undertaken reflects the SAB's advice on how best to proceed, given available resources and the Congress's deadline of October 2000.

Charge to the Committee

The Charge asks the EHC to respond to the following three questions:

(a) How well did the study conform to the study plan developed with the SAB EC (November 1999 and March 2000)?

(b) Does the SAB concur with the findings of the reviewers?

(c) What further improvements, if any, might the Agency make in IRIS documentation in response to the study results?

Availability of Review Materials

The principal review document, Characterization of Data Uncertainty and Variability in IRIS Assessments, Pre-Pilot vs Pilot/post-Pilot, is available on the Internet at the SAB website (http://www.epa.gov/sab), or by request to Ms. Karen Hogan, phone (202) 564-3403, or by email to hogan.karen@epa.gov.

For Further Information

Any member of the public wishing further information concerning this meeting or wishing to submit brief oral comments (10 minutes or less) must contact Samuel Rondberg, Designated Federal Officer, Science Advisory Board (1400A), U.S. Environmental Protection Agency, 1200 Pennsylvania Avenue, NW, Washington, DC 20460; telephone (301) 812-2560, FAX (410) 286-2689; or via e-mail at samuelr717@aol.com. Requests for oral comments must be in writing (e-mail, fax or mail) and received by Mr. Rondberg no later than noon (EDT) on August 21, 2000.

Providing Oral or Written Comments at SAB Meetings

It is the policy of the Science Advisory Board to accept written public comments of any length, and to accommodate oral public comments whenever possible. The Science Advisory Board expects that public statements presented at its meetings will not be repetitive of previously submitted oral or written statements. Oral Comments: In general, each individual or group requesting an oral presentation at a face-to-face meeting will be limited to a total time of ten minutes. For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to the appropriate DFO at the address/contact information noted above in the following formats: one hard copy with original signature, and one electronic copy via e-mail (acceptable file format: WordPerfect, Word, or Rich Text files (in IBM-PC/Windows 95/98 format). Those providing written comments and who attend the meeting are also asked to bring 25 copies of their comments for public distribution.

General Information

Additional information concerning the Science Advisory Board, its structure, function, and composition, may be found on the SAB Website (http://www.epa.gov/sab) and in The FY1999 Annual Report of the Staff Director which is available from the SAB Publications Staff at (202) 564-4533 or via fax at (202) 501-0256. Committee rosters, draft Agendas and meeting calendars are also located on our website.

Meeting Access

Individuals requiring special accommodation at this meeting, including wheelchair access to the conference room, should contact the DFO at least five business days prior to the meeting so that appropriate arrangements can be made.

Dated: July 31, 2000.
A. Robert Flaak,
Acting Staff Director, Science Advisory Board.

[FR Doc. 00-19914 Filed 8-4-00; 8:45 am]

BILLING CODE 6560-50-P